DEPARTMENT OF TRANSPORTATION

Federal Aviation Administration

14 CFR Part 97

[Docket No. 30660 Amdt. No. 3316]

Standard Instrument Approach Procedures, and Takeoff Minimums and Obstacle Departure Procedures; Miscellaneous Amendments

AGENCY: Federal Aviation Administration (FAA), DOT.

ACTION: Final rule.

SUMMARY: This establishes, amends, suspends, or revokes Standard Instrument Approach Procedures (SIAPs) and associated Takeoff Minimums and Obstacle Departure Procedures for operations at certain airports. These regulatory actions are needed because of the adoption of new or revised criteria, or because of changes occurring in the National Airspace System, such as the commissioning of new navigational facilities, adding new obstacles, or changing air traffic requirements. These changes are designed to provide safe and efficient use of the navigable airspace and to promote safe flight operations under instrument flight rules at the affected airports.

DATES: This rule is effective April 14, 2009. The compliance date for each SIAP, associated Takeoff Minimums, and ODP is specified in the amendatory provisions.

The incorporation by reference of certain publications listed in the regulations is approved by the Director of the Federal Register as of April 14, 2009.

ADDRESSES: Availability of matters incorporated by reference in the amendment is as follows:

For Examination—

1. FAA Rules Docket, FAA Headquarters Building, 800 Independence Avenue, SW., Washington, DC 20591;

2. The FAA Regional Office of the region in which the affected airport is located;

3. The National Flight Procedures Office, 6500 South MacArthur Blvd., Oklahoma City, OK 73169, or

4. The National Archives and Records Administration (NARA). For information on the availability of this material at NARA, call 202-741-6030, or go to: http://www.archives.gov/federal_register/code_of_federal_regulations/ibr_locations.html.

Availability—All SIAPs and Takeoff Minimums and ODPs are available online free of charge. Visit http://www.nfdc.faa.gov to register. Additionally, individual SIAP and Takeoff Minimums and ODP copies may be obtained from:

1. FAA Public Inquiry Center (APA-200), FAA Headquarters Building, 800 Independence Avenue, SW., Washington, DC 20591; or

2. The FAA Regional Office of the region in which the affected airport is located.

FOR FURTHER INFORMATION CONTACT: Harry J. Hodges, Flight Procedure Standards Branch (AFS-420), Flight Technologies and Programs Divisions, Flight Standards Service, Federal Aviation Administration, Mike Monroney Aeronautical Center, 6500 South MacArthur Blvd., Oklahoma City, OK 73169 (Mail Address: P.O. Box 25082, Oklahoma City, OK 73125), Telephone: (405) 954-4164.

SUPPLEMENTARY INFORMATION: This rule amends Title 14 of the Code of Federal Regulations, Part 97 (14 CFR part 97), by establishing, amending, suspending, or revoking SIAPS, Takeoff Minimums and/or ODPS. The complete regulators description of each SIAP and its associated Takeoff Minimums or ODP for an identified airport is listed on FAA form documents which are incorporated by reference in this amendment under 5 U.S.C. 552(a), 1 CFR part 51, and 14 CFR part 97.20. The applicable FAA Forms are FAA Forms 8260-3, 8260-4, 8260-5, 8260-15A, and 8260-15B when required by an entry on 8260-15A.

The large number of SIAPs, Takeoff Minimums and ODPs, in addition to their complex nature and the need for a special format make publication in the Federal Register expensive and impractical. Furthermore, airmen do not use the regulatory text of the SIAPs, Takeoff Minimums or ODPs, but instead refer to their depiction on charts printed by publishers of aeronautical materials. The advantages of incorporation by reference are realized and publication of the complete description of each SIAP, Takeoff Minimums and ODP listed on FAA forms is unnecessary. This amendment provides the affected CFR sections and specifies the types of SIAPs and the effective dates of the associated Takeoff Minimums and ODPs. This amendment also identifies the airport and its location, the procedure, and the amendment number.

The Rule

This amendment to 14 CFR part 97 is effective upon publication of each separate SIAP, Takeoff Minimums and ODP as contained in the transmittal. Some SIAP and Takeoff Minimums and textual ODP amendments may have been issued previously by the FAA in a Flight Data Center (FDC) Notice to Airmen (NOTAM) as an emergency action of immediate flight safety relating directly to published aeronautical charts. The circumstances which created the need for some SIAP and Takeoff Minimums and ODP amendments may require making them effective in less than 30 days. For the remaining SIAPS and Takeoff Minimums and ODPS, an effective date at least 30 days after publication is provided.

Further, the SIAPs and Takeoff Minimums and ODPS contained in this amendment are based on the criteria contained in the U.S. Standard for Terminal Instrument Procedures (TERPS). In developing these SIAPS and Takeoff Minimums and ODPs, the TERPS criteria were applied to the conditions existing or anticipated at the affected airports. Because of the close and immediate relationship between these SIAPs, Takeoff Minimums and ODPs, and safety in air commerce, I find that notice and public procedures before adopting these SIAPS, Takeoff Minimums and ODPs are impracticable and contrary to the public interest and, where applicable, that good cause exists for making some SIAPs effective in less than 30 days.

Conclusion

The FAA has determined that this regulation only involves an established body of technical regulations for which frequent and routine amendments are necessary to keep them operationally current. It, therefore—(1) is not a “significant regulatory action” under Executive Order 12866; (2) is not a “significant rule” under DOT Regulatory Policies and Procedures (44 FR 11034; February 26, 1979); and (3) does not warrant preparation of a regulatory evaluation, as the anticipated impact is so minimal. For the same reason, the FAA certifies that this amendment will not have a significant economic impact on a substantial number of small entities under the criteria of the Regulatory Flexibility Act.

List of Subjects in 14 CFR Part 97

Air Traffic Control, Airports, Incorporation by reference, and Navigation (Air).

Issued in Washington, DC on April 3, 2009.
John M. Allen,
Director, Flight Standards Service.

Adoption of the Amendment

Accordingly, pursuant to the authority delegated to me, Title 14, Code of Federal Regulations, Part 97 (14 CFR part 97) is amended by establishing, amending, suspending, or revoking Standard Instrument Approach Procedures and/or Takeoff Minimums and/or Obstacle Departure Procedures effective at 0902 UTC on the dates specified, as follows:

PART 97—STANDARD INSTRUMENT APPROACH PROCEDURES

1. The authority citation for part 97 continues to read as follows:

Authority: 49 U.S.C. 106(g), 40103, 40106, 40113, 40114, 40120, 44502, 44514, 44701, 44719, 44721-44722.

2. Part 97 is amended to read as follows:

Effective 07 MAY 2009

Iliamna, AK, Iliamna, RNAV (GPS) RWY 25, Amdt 1

Iliamna, AK, Iliamna, RNAV (GPS) RWY 35, Amdt 1

Davis Woodland Winter, CA, Yolo County, GPS RWY 16, Orig, CANCELLED

Davis Woodland Winter, CA, Yolo County, GPS RWY 34, Orig, CANCELLED

Davis Woodland Winter, CA, Yolo County, RNAV (GPS) RWY 16, Orig

Davis Woodland Winter, CA, Yolo County, RNAV (GPS) RWY 34, Orig

Davis Woodland Winter, CA, Yolo County, Takeoff Minimums and Obstacle DP, Amdt 1

Davis Woodland Winter, CA, Yolo County, VOR RWY 34, Orig-A, CANCELLED

Davis, CA, University, RNAV (GPS) RWY 17, Orig

Davis, CA, University, Takeoff Minimums and Obstacle DP, Amdt 3

Davis, CA, University, VOR OR GPS RWY 16, Amdt 1, CANCELLED

Rio Vista, CA, Rio Vista Muni, GPS RWY 25, Orig, CANCELLED

Rio Vista, CA, Rio Vista Muni, RNAV (GPS) RWY 25, Orig

Rio Vista, CA, Rio Vista Muni, VOR/DME-A, Amdt 1

Woodland, CA, Watts-Woodland, RNAV (GPS) RWY 36, Orig

Woodland, CA, Watts-Woodland, Takeoff Minimums and Obstacle DP, Amdt 3

Woodland, CA, Watts-Woodland, VOR/DME-A, Amdt 5

Montrose, CO, Montrose Rgnl, ILS OR LOC/DME RWY 17, Amdt 2

Bartow, FL, Bartow Muni, RNAV (GPS) RWY 5, Orig

Bartow, FL, Bartow Muni, RNAV (GPS) RWY 9L, Amdt 1

Bartow, FL, Bartow Muni, RNAV (GPS) RWY 23, Orig

Bartow, FL, Bartow Muni, RNAV (GPS) RWY 27R, Amdt 1

Burlington, IA, Southeast Iowa Rgnl, RNAV (GPS) RWY 12, Orig

Burlington, IA, Southeast Iowa Rgnl, RNAV (GPS) RWY 30, Orig

Burlington, IA, Southeast Iowa Rgnl, RNAV (GPS) RWY 36, Amdt 1

Burlington, IA, Southeast Iowa Rgnl, VOR RWY 30, Amdt 13

Council Bluffs, IA, Council Bluffs Muni, RNAV (GPS) RWY 14, Amdt 1

Evansville, IN, Evansville Rgnl, ILS OR LOC RWY 4, Amdt 2

Evansville, IN, Evansville Rgnl, ILS OR LOC RWY 22, Amdt 21

Evansville, IN, Evansville Rgnl, NDB RWY 22, Amdt 13

Evansville, IN, Evansville Rgnl, RNAV (GPS) RWY 4, Orig

Evansville, IN, Evansville Rgnl, RNAV (GPS) RWY 22, Orig

Evansville, IN, Evansville Rgnl, RADAR-1, Amdt 6

Evansville, IN, Evansville Rgnl, VOR RWY 4, Amdt 6

Flemingsburg, KY, Fleming-Mason, Takeoff Minimums and Obstacle DP, Orig

Williamsburg, KY, Williamsburg-Whitley County, RNAV (GPS) RWY 2, Amdt 1

Williamsburg, KY, Williamsburg-Whitley County, VOR/DME RWY 20, Orig

Bedford, MA, Laurence G. Hanscom Fld, NDB RWY 29, Amdt 7

Bedford, MA, Laurence G. Hanscom Fld, RNAV (GPS) RWY 29, Orig

Falmouth, MA, Cape Cod Coast Guard Air Station, TACAN RWY 5, Amdt 1

Falmouth, MA, Cape Cod Coast Guard Air Station, TACAN RWY 14, Amdt 1

Nantucket, MA, Nantucket Memorial, GPS RWY 33, Orig-C, CANCELLED

Nantucket, MA, Nantucket Memorial, ILS OR LOC RWY 6, Amdt 1

Nantucket, MA, Nantucket Memorial, ILS OR LOC RWY 24, Amdt 15D

Nantucket, MA, Nantucket Memorial, RNAV (GPS) RWY 6, Orig

Nantucket, MA, Nantucket Memorial, RNAV (GPS) RWY 24, Orig

Nantucket, MA, Nantucket Memorial, RNAV (GPS) RWY 33, Orig

Nantucket, MA, Nantucket Memorial, VOR RWY 24, Amdt 14

Northampton, MA, Northampton, GPS RWY 14, Orig, CANCELLED

Northampton, MA, Northampton, RNAV (GPS) RWY 14, Orig

Northampton, MA, Northampton, VOR-A, Amdt 5

Rangeley, ME, Rangeley Lake SPB, NDB-B, Amdt 1

Rangeley, ME, Rangeley Lake SPB, RNAV (GPS)-C, Orig

Rangeley, ME, Steven A. Bean Muni, NDB-A, Amdt 5

Rangeley, ME, Steven A. Bean Muni, RNAV (GPS)-D, Orig

Wiscasset, ME, Wiscasset, NDB RWY 25, Amdt 5B, CANCELLED

Benton Harbor, MI, Southwest Michigan Rgnl, RNAV (GPS) RWY 9, Orig

Benton Harbor, MI, Southwest Michigan Rgnl, VOR RWY 9, Amdt 9

Detroit, MI, Coleman A. Young Muni, NDB RWY 15, Amdt 23

Gaylord, MI, Gaylord Rgnl, Takeoff Minimums and Obstacle DP, Orig

Ironwood, MI, Gogebic-Iron County, RNAV (GPS) RWY 9, Orig

Ironwood, MI, Gogebic-Iron County, RNAV (GPS) RWY 27, Orig

Ironwood, MI, Gogebic-Iron County, Takeoff Minimums and Obstacle DP, Amdt 6

Ironwood, MI, Gogebic-Iron County, VOR/DME RWY 9, Amdt 13

Ironwood, MI, Gogebic-Iron County, VOR/DME RWY 27, Amdt 9

Benson, MN, Benson Muni, Takeoff Minimums and Obstacle DP, Amdt 1

Fairmont, MN, Fairmont Muni, RNAV (GPS) RWY 13, Orig

Fairmont, MN, Fairmont Muni, RNAV (GPS) RWY 31, Orig

Fairmont, MN, Fairmont Muni, Takeoff Minimums and Obstacle DP, Amdt 3

Fairmont, MN, Fairmont Muni, VOR RWY 13, Amdt 5

Fairmont, MN, Fairmont Muni, VOR RWY 31, Amdt 8

Grand Rapids, MN, Grand Rapids/Itasca Co-Gordon Newstrom, GPS RWY 16, Orig, CANCELLED

Grand Rapids, MN, Grand Rapids/Itasca Co-Gordon Newstrom, RNAV (GPS) RWY 16, Orig

Grand Rapids, MN, Grand Rapids/Itasca Co-Gordon Newstrom, RNAV (GPS) RWY 34, Orig

Grand Rapids, MN, Grand Rapids/Itasca Co-Gordon Newstrom, VOR RWY 34, Amdt 11

International Falls, MN, Falls Intl, ILS OR LOC RWY 31, Amdt 10

Minneapolis, MN, Anoka County-Blaine (Janes Field), RNAV (GPS) RWY 9, Orig

Minneapolis, MN, Anoka County-Blaine (Janes Field), RNAV (GPS) RWY 18, Orig

Minneapolis, MN, Anoka County-Blaine (Janes Field), VOR RWY 9, Amdt 12

Minneapolis, MN, Anoka County-Blaine (Janes Field), VOR/DME RWY 27, Amdt 5

Minneapolis, MN, Anoka County-Blaine (Janes Field), VOR/DME RNAV OR GPS RWY 18, Amdt 3A, CANCELLED

Tower, MN, Tower Muni, RNAV (GPS) RWY 8, Orig

Tower, MN, Tower Muni, RNAV (GPS) RWY 26, Orig

Tower, MN, Tower Muni, Takeoff Minimums and Obstacle DP, Orig

Columbia, MO, Columbia Rgnl, ILS OR LOC/DME RWY 2, Amdt 14

Clarksdale, MS, Fletcher Field, NDB RWY 36, Amdt 9A, CANCELLED

Greenville, MS, Mid Delta Rgnl, RNAV (GPS) RWY 36L, Orig-A

Asheville, NC, Asheville Regional, Takeoff Minimums and Obstacle DP, Amdt 8

Currituck, NC, Currituck County Regional, GPS RWY 5, Orig, CANCELLED

Currituck, NC, Currituck County Regional, RNAV (GPS) RWY 5, Orig

Currituck, NC, Currituck County Regional, Takeoff Minimums and Obstacle DP, Amdt 1

Currituck, NC, Currituck County Regional, VOR/DME-A, Amdt 1

Roxboro, NC, Person County, GPS RWY 6, Orig, CANCELLED

Roxboro, NC, Person County, RNAV (GPS) RWY 6, Orig

Roxboro, NC, Person County, RNAV (GPS) RWY 24, Orig-A

Winston-Salem, NC, Smith Reynolds, GPS RWY 15, Orig-B, CANCELLED

Winston-Salem, NC, Smith Reynolds, GPS RWY 33, Orig-B, CANCELLED

Winston-Salem, NC, Smith Reynolds, ILS OR LOC RWY 33, Amdt 29

Winston-Salem, NC, Smith Reynolds, RNAV (GPS) RWY 15, Orig

Winston-Salem, NC, Smith Reynolds, RNAV (GPS) RWY 33, Orig

Lebanon, NH, Lebanon Muni, GPS RWY 25, Orig-A, CANCELLED

Lebanon, NH, Lebanon Muni, RNAV (GPS) RWY 25, Orig

Southampton, NY, Southampton Heliport, COPTER RNAV (GPS) 190, Orig

Southampton, NY, Southampton Heliport, COPTER VOR/DME RNAV OR GPS 187, Orig, CANCELLED

Zelienople, PA, Zelienople Muni, GPS RWY 17, Amdt 1, CANCELLED

Zelienople, PA, Zelienople Muni, GPS RWY 35, Amdt 1, CANCELLED

Zelienople, PA, Zelienople Muni, RNAV (GPS) RWY 17, Orig

Zelienople, PA, Zelienople Muni, RNAV (GPS) RWY 35, Orig

Moncks Corner, SC, Berkeley County, VOR/DME-A, Orig

Jackson, TN, McKellar-Sipes Rgnl, GPS RWY 2, Orig, CANCELLED

Jackson, TN, McKellar-Sipes Rgnl, GPS RWY 20, Orig-A, CANCELLED

Jackson, TN, McKellar-Sipes Rgnl, ILS OR LOC RWY 2, Amdt 8

Jackson, TN, McKellar-Sipes Rgnl, RNAV (GPS) RWY 2, Orig

Jackson, TN, McKellar-Sipes Rgnl, RNAV (GPS) RWY 20, Orig

Jackson, TN, McKellar-Sipes Rgnl, Takeoff Minimums and Obstacle DP, Amdt 1

Nashville, TN, Nashville Intl, ILS OR LOC RWY 20R, Amdt 9

Nashville, TN, Nashville Intl, RNAV (GPS) RWY 20R, Amdt 1

Falfurrias, TX, Brooks County, GPS RWY 17, Orig-A, CANCELLED

Falfurrias, TX, Brooks County, NDB RWY 35, Amdt 2

Falfurrias, TX, Brooks County, RNAV (GPS) RWY 17, Orig

Falfurrias, TX, Brooks County, Takeoff Minimums and Obstacle DP, Amdt 1

Houston, TX, George Bush Intercontinental/Houston, ILS OR LOC RWY 8L, ILS RWY 8L (CAT II), ILS RWY 8L (CAT III), Amdt 2

Houston, TX, George Bush Intercontinental/Houston, ILS OR LOC RWY 8R, Amdt 23

Houston, TX, George Bush Intercontinental/Houston, ILS OR LOC RWY 9, Amdt 8

Houston, TX, George Bush Intercontinental/Houston, ILS OR LOC RWY 26L, ILS RWY 26L (CAT II), ILS RWY 26L (CAT III), Amdt 19

Houston, TX, George Bush Intercontinental/Houston, ILS OR LOC RWY 26R, ILS RWY 26R (CAT II), ILS RWY 26R (CAT III), Amdt 2

Houston, TX, George Bush Intercontinental/Houston, ILS OR LOC RWY 27, ILS RWY 27 (CATII), ILS RWY 27 (CAT III), Amdt 7

Houston, TX, George Bush Intercontinental/Houston, RNAV (GPS) Z RWY 8L, Amdt 3

Houston, TX, George Bush Intercontinental/Houston, RNAV (GPS) Z RWY 8R, Amdt 2

Houston, TX, George Bush Intercontinental/Houston, RNAV (GPS) Z RWY 9, Amdt 3

Houston, TX, George Bush Intercontinental/Houston, RNAV (GPS) Z RWY 26L, Amdt 2

Houston, TX, George Bush Intercontinental/Houston, RNAV (GPS) Z RWY 26R, Amdt 2

Houston, TX, George Bush Intercontinental/Houston, RNAV (GPS) Z RWY 27, Amdt 2

Oak Harbor, WA, A J Eisenberg, RNAV (GPS) RWY 7, Amdt 2B

Seattle, WA, Boeing Field/King County Intl, RNAV (RNP) Z RWY 13R, Orig-B

Spokane, WA, Spokane Intl, RNAV (GPS) RWY 25, Amdt 2A

Tacoma, WA, Tacoma Narrows, GPS RWY 35, Orig-A, CANCELLED

Tacoma, WA, Tacoma Narrows, RNAV (GPS) RWY 35, Orig

[FR Doc. E9-8345 Filed 4-13-09; 8:45 am]

BILLING CODE 4910-13-P